DEPARTMENT OF THE INTERIOR

Bureau of Land Management

[CO-140-08-1610-DP]

Notice of Public Meeting, Northwest Colorado Resource Advisory Council Subcommittees for the Glenwood Springs and Kremmling Resource Management Plan Revisions

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Northwest Colorado Resource Advisory Council (RAC) Subcommittees on the Glenwood Springs/Kremmling Resource Management Plan (RMP) Revisions will meet as indicated below.

DATES: November 7, 2007, from 5 p.m. to 7 p.m., Glenwood Springs Subcommittee; November 6, 2007, from 5 p.m. to 7 p.m., Kremmling Subcommittee.

ADDRESSES: The Glenwood Springs Subcommittee will meet at the Glenwood Springs Energy Office Conference Room, 2425 S. Grand Ave., Glenwood Springs, CO. The Kremmling Subcommittee will meet at the Kremmling Field Office, 2103 E. Park Ave., Kremmling, CO.

FOR FURTHER INFORMATION CONTACT: Joe Stout, Lead Planner, 2103 E. Park Ave., Kremmling, CO; telephone 970-724-3003; or Brian Hopkins, Planning and Environmental Coordinator, 50629 Hwy. 6 & 24, Glenwood Springs, CO, telephone 970-947-2840.

SUPPLEMENTARY INFORMATION: The Northwest Colorado RAC advises the Secretary of the Interior, through the Bureau of Land Management, on a variety of public land issues in northwestern Colorado. Two sub-committees have been formed under this RAC to advise it regarding the joint Glenwood Springs and Kremmling Field Offices' RMP Revisions. The individuals on each subcommittee represent a broad range of interests and have specific knowledge of the Field Offices. The Glenwood Springs subcommittee is comprised of up to 14 individuals and will focus on all aspects of the Glenwood Springs RMP Revision. The Kremmling Subcommittee is comprised of 10 individuals who will focus specifically on travel management and recreation issues for the Kremmling RMP Revision. Recommendations developed by these subcommittees will be presented formally for discussion to the NW RAC at publicly announced meetings of the full NW RAC.

Dated: October 15, 2007.
Jamie Connell,
Glenwood Springs Field Manager, Lead Designated Federal Officer for the Northwest Colorado RAC.

[FR Doc. 07-5210 Filed 10-19-07; 8:45 am]

BILLING CODE 4310-JB-M